DEPARTMENT OF HOMELAND SECURITY

U.S. Citizenship and Immigration Services

[Docket No. DHS-2005-0008; USCIS No. 2340-05]

RIN 1615-ZA17

Important Announcement for Class Members of American Baptist Churches v. Thornburgh (ABC) Regarding Change of Address Notifications, Discontinuance of Form I-855, ABC Change of Address Form, and Permanent Closure of the ABC Project Post Office Box

AGENCY: U.S. Citizenship and Immigration Services, Department of Homeland Security.

ACTION: Notice.

SUMMARY: This notice informs class members of American Baptist Churches v. Thornburgh, 760 F. Supp. 796 (N.D. Cal. 1991) (ABC) of a change in procedures for notifying the Office of Refugee, Asylum, and International Operations, U.S. Citizenship and Immigration Services (USCIS) of any address changes. It informs ABC class members that the ABC Project Post Office Box in Washington, D.C will be closed and that USCIS will no longer accept change of address forms sent to that address. USCIS intends to standardize the reporting of all alien changes of address and has developed a central repository for tracking and updating an alien's change of address.

DATES: This notice is effective October 4, 2005.

FOR FURTHER INFORMATION CONTACT: James Wyrough, Program Manager, ABC-NACARA, Asylum Division, Office of Refugee, Asylum, and International Operations, U.S. Citizenship and Immigration Services, Department of Homeland Security, 20 Massachusetts Ave., NW., Third Floor, Washington, DC 20536, Telephone Number (202) 272-1634.

SUPPLEMENTARY INFORMATION: Class members must notify USCIS of any change of address by submitting Form AR-11, Alien's Change of Address Card, to the Department of Homeland Security (DHS) address listed on the Form within 10 days after an address change. If the ABC asylum application is pending with a USCIS Asylum Office, the class member should also notify that office of the change in address by submitting a copy of the completed Form AR-11, or a signed and dated letter containing the change of address.

To further that goal, USCIS intends to discontinue the use of Form I-855, ABC Change of Address Form, and to permanently close the ABC Project Post Office Box because it is no longer necessary to have a separate centralized location for receiving ABC class members' change of address notifications. This action will allow USCIS to expedite action in response to a change of address and will be more convenient for USCIS and ABC class members.

What Is the ABC Settlement Agreement?

American Baptist Churches v. Thornburgh, 760 F. Supp. 796 (N.D. Cal. 1991) (ABC) sets out the settlement of class action law suit brought in 1985 by Salvadorans and Guatemalans who alleged that the United States government discriminated against them in the adjudication of their asylum claims. On December 19, 1990, the United States District Court for the Northern District of California entered preliminary approval of a settlement agreement reached between the Departments of Justice and State and the class members, which provided for a de novo adjudication of asylum applications by members of the Asylum Officers Corps. The agreement was approved on January 31, 1991 and published as American Baptist Churches v. Thornburgh, 760 F. Supp. 796 (N.D. Cal. 1991).

The agreement defined the affected class members to be those Salvadorans in the United States as of September 19, 1990 and those Guatemalans in the United States as of October 1, 1990. Subsequent sections of the agreement limited the availability of relief under the settlement to class members who met specific deadlines for registration and submitting asylum applications. Guatemalan class members were required to apply for asylum on or before January 3, 1995. Salvadoran class members were required to apply for asylum on or before January 31, 1996 (with an administrative grace period to February 16, 1996). The agreement also excluded from eligibility those persons who were convicted of aggravated felonies or who were apprehended at the time of entry on or after December 19, 1990. Following the dissolution of the Immigration and Naturalization Service (INS), USCIS assumed responsibility for administering the terms of the agreement relating to adjudication of asylum claims.

Why Is the ABC Project Post Office Box Going To Be Closed?

The former INS established the ABC Project Post Office Box in Washington, DC to provide a centralized location for the approximately 240,000 ABC class members to submit change of address forms via Form I-855, ABC Change of Address Form. At the time, many ABC class members who were eligible to seek benefits of the settlement agreement had not yet applied for asylum or any other benefit with the former INS, and therefore had no A-number and no record in a national database system, such as the Refugee, Asylum, and Parole System (RAPS), for the INS to update. By creating a central repository, the ABC Project Post Office Box eliminated confusion and simplified the process of reporting a change of address for those ABC class members, particularly those who had not yet applied for asylum or any other immigration benefit.

The ABC Project Post Office Box no longer serves the purpose for which it was intended. ABC class members must have applied for asylum in order to retain their benefits under the settlement agreement, and the deadlines for applying for asylum have long passed. Many ABC class members have also filed applications pursuant to Section 203 of the Nicaraguan Adjustment and Central American Relief Act (NACARA 203) (Public Law 105-100) and the regulations (8 CFR part 240, (H)). ABC class members now have records in central DHS databases, where their addresses may be updated, and a separate centralized location for submitting changes of address is no longer required.

Additionally, ABC class members with pending asylum and/or NACARA 203 applications are now required to follow standard DHS procedures for submitting change of address notifications. Under current DHS procedure for reporting changes of address, ABC class members who have an asylum and/or NACARA application pending with USCIS are required to submit Form AR-11 to a centralized DHS repository and are requested to notify the Asylum Office having jurisdiction over their application(s) of the change address. This can be accomplished by providing the Asylum Office with a copy of the Form AR-11.

In light of the foregoing, ABC class members may end up reporting a change of address to three different locations: the central DHS repository, the Asylum Office, and the ABC Project Post Office Box. Since the ABC Project Post Office Box no longer serves its intended purpose, submission of changes of address to that location is superfluous. Closing the ABC Project Post Office Box and discontinuing Form I-855 will eliminate confusion on the part of ABC class members and ensure that address changes are properly updated in accordance with current DHS procedure.

When Will USCIS Discontinue Form I-855, ABC Change of Address?

The Form I-855, ABC Change of Address, will be discontinued with the effective closing of the ABC Project Post Office Box on October 4, 2005.

When Will the ABC Project Post Office Box Be Closed?

USCIS will close the ABC Project Post Office Box on October 4, 2005. Before the ABC Project Post Office Box is closed, USCIS will take additional steps to publicly, through the media and community base organizations, inform ABC class members of the need to submit Form AR-11, Alien's Change of Address Card, directly to the address listed below and the request that they additionally notify in writing the appropriate Asylum Office of any change of address.

What Will Happen to Change of Address Notifications That Are Sent to the ABC Project Post Office Box After It Is Closed?

The U.S. Postal Service will not forward Form I-855, ABC Change of Address, or other mail sent to the ABC Project Post Office Box to the Asylum Offices. The U.S. Postal Service will return to the sender all mail addressed to the ABC Project Post Office Box after the box has been closed, as long as the mail contains a return address on the envelope. Mail without a return address will be destroyed.

It is important that a class member notify USCIS of any changes to ensure that the class member receives notice of his or her asylum interview. An ABC class member may lose the right to an ABC asylum interview and USCIS may deny his or her asylum application if the class member fails to appear for an interview and that failure to appear has not been excused for good cause.

How Should ABC Class Members Notify USCIS of a Change of Address?

Pursuant to 8 CFR part 265 all aliens, including ABC class members who change their address, must file Form AR-11, Alien Change of Address Card, within 10 days of any change of address, at the following address:

For regular U.S. Postal Service: U.S. Department of Homeland Security, Change of Address, P.O. Box 7134, London, KY 40742-7134.

For overnight mailings only: U.S. Department of Homeland Security, Change of Address, 1084-I South Laurel Road, London, KY 40744.

Applicants may obtain Form AR-11 at their nearest post office, nearest DHS office, online at http://uscis.gov/graphics/formsfee/forms/ar-11.htm, or by calling the USCIS forms request line at 1-800-870-3676.

Additionally, ABC class members should notify the Asylum Office that has jurisdiction over the class member's asylum application of any change of address. This additional notification can be accomplished by making a copy of the Form AR-11, or providing a signed and dated letter containing the change of address to the Asylum Office processing the asylum application.

The information should be clearly printed. Individuals should not use any copies of the Form I-855 to notify USCIS of a change of address after the ABC Project Post Office Box is closed. After the ABC Project Post Office Box is closed, Form AR-11, Alien's Change of Address Card, is the only form to be used by an alien to officially report a change of address to USCIS.

Dated: July 29, 2005.
Robert C. Divine,
Acting Deputy Director, U.S. Citizenship Immigration Services.

[FR Doc. 05-15524 Filed 8-4-05; 8:45 am]

BILLING CODE 4410-10-P